DEPARTMENT OF DEFENSE

Department of the Army

Record of Decision for Activities and Operations at Yuma Proving Ground, Arizona

AGENCY: Department of the Army, DoD.

ACTION: Notice of availability.

SUMMARY: The Department of the Army announces the availability of the Record of Decision (ROD) for implementation of activities and operations at Yuma Proving Ground (YPG), AZ. Pursuant to the National Environmental Policy Act (NEPA), the Department of the Army prepared a Programmatic Environmental Impact Statement (PEIS) that evaluated the potential environmental and socioeconomic effects of proposed construction and demolition of facilities and infrastructure, and proposed changes to current types and levels of testing and training at YPG. The Army selected the Preferred Alternative identified in the Final PEIS. The ROD explains that the Army will proceed with its Preferred Alternative to implement 296 proposed activities, including construction and demolition of facilities and infrastructure, changes to current types and levels of testing and training, and activities conducted under private industry partnerships.

ADDRESSES: For questions concerning the ROD, please contact Mr. Sergio Obregon, U.S. Army Garrison Yuma Proving Ground, National Environmental Policy Act Coordinator, IMYM-PWE, Yuma, AZ 85365-9498. Questions may be mailed to that address or emailed to usarmy.ypg.imcom.mbx.nepa@mail.mil.

FOR FURTHER INFORMATION CONTACT: Mr. Chuck Wullenjohn, Yuma Proving Ground Public Affairs Office, at (928) 328-6189 Monday through Thursday from 6:30 a.m. to 5:00 p.m., Mountain Standard Time.

SUPPLEMENTARY INFORMATION: Yuma Proving Ground is a major range and test facility base, responsible for testing technology, equipment, and weapon systems. The purpose of the selected action is to provide upgraded facilities for testing military ground and aerial vehicle systems, weapons, ammunitions, sensors, and guidance systems for performance and reliability, and to provide realistic training for military units. The Final PEIS, published in April 2015, examined the potential environmental and socioeconomic impacts associated with implementing new activities and operations at YPG. Activities addressed in the Final PEIS included construction and demolition of facilities and infrastructure, and changes to current types and levels of testing and training. It provided thorough analysis under NEPA for the short-term, well-defined projects and allows less well-defined projects to be implemented following a focused, site-specific NEPA analysis that would tier from the PEIS.

The ROD incorporates analysis contained in the Final PEIS for activities and operations at YPG, as well as comments provided during formal comment and review periods, to include the Final PEIS waiting period.

The Army considered reasonable alternatives for components of the activities in the Proposed Action and has selected an alternative that will have a lower impact for some projects than would the original Proposed Action. These include reduced areas and selection of a smaller area for some of the proposed activities to avoid or minimize potential impacts.

Implementation of this decision is expected to result in direct, indirect, and cumulative impacts to environmental resources. To minimize the potential adverse impacts from implementation of the selected alternative, the Army will mitigate these effects through a variety of mitigation and control measures, as described in the ROD. All practicable means to avoid or minimize environmental harm from the selected alternative have been adopted. In making this decision, the Army is aware that implementation of the selected alternative could result in potentially significant impacts to Fire Management, Soils, and Vegetation, even after implementation of mitigation measures. The selected alternative represents a balance between mission requirements and stewardship of the environment.

The full text of the ROD and the Final PEIS are available at the following Web site: http://www.yuma.army.mil/Documents.aspx.

Brenda S. Bowen,
Army Federal Register Liaison Officer.

[FR Doc. 2016-18364 Filed 8-2-16; 8:45 am]

BILLING CODE 5001-03-P